DEPARTMENT OF HEALTH AND HUMAN SERVICES

Administration for Children and Families

Submission for OMB Review; Comment Request

Title: Mentoring Children for Prisoners Data Collection Process (MCPDCP).

OMB No.: New collection.

Description: Information from the Mentoring Children of Prisoners Data Collection Process is necessary for the Federal agency's reporting and planning under the Government Performance and Results Act and to support evaluation requirements in the statute. The data will be used for accountability monitoring, management improvement, and research. Acquisition of the data ensures that the Federal agency knows if grantees are meeting the targets (number of children being mentored) recorded in the grant application as required by the statute, and that mentoring activities are faithful to characteristics established by research as essential to success. The data also support grantees as they carry out ongoing responsibilities, maintain program service and manage information for internal uses.

Respondents: Recipients of grants from the HHS/ACF/Family and Youth Services Bureau to operate programs to provide mentoring for children of prisoners.

Annual Burden Estimates
[Note reduction in estimate from previous notice]
Instrument | Number of respondents | Number of responses per respondent | Average burden hours per response | Total burden hours
MCP Data Collection Process (MCPDCP) | 250 | 4 | 12 | 12,000
Estimated Total Annual Burden Hours |  |  |  | 12,000

Additional Information:

Copies of the proposed collection may be obtained by writing to the Administration for Children and Families, Office of Administration, Office of Information Services, 370 L'Enfant Promenade, SW., Washington, DC 20447, Attn: ACF Reports Clearance Officer. All requests should be identified by the title of the information collection. E-mail address: grjohnson@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reducation Project, Attn: Desk Officer for ACF, E-mail address: katherine_t._astrich@omb.eop.gov.

Dated: May 25, 2004.
Robert Sargis,
Reports Clearance Officer.

[FR Doc. 04-12352 Filed 5-28-04; 8:45 am]

BILLING CODE 4184-01-M